DEPARTMENT OF TRANSPORTATION

Federal Railroad Administration

Agency Information Collection Activities

AGENCY: Federal Railroad Administration, DOT.

ACTION: Notice of OMB approvals.

SUMMARY: In compliance with the Paperwork Reduction Act of 1995 (44 U.S.C. 3501 et seq.) and 5 CFR 1320.5(b), this notice announces that new information collections requirements (ICRs) listed below have been approved by the Office of Management and Budget (OMB). These ICRs pertain to 49 CFR parts 225, 229, 241, and 244. Additionally, FRA hereby announces that other ICRs listed below have been re-approved by the Office of Management and Budget (OMB). These ICRs pertain to parts 209, 230, 238, 240, and 260. The OMB approval numbers, titles, and expiration dates are included herein under supplementary information.

FOR FURTHER INFORMATION CONTACT: Mr. Robert Brogan, Office of Planning and Evaluation Division, RRS-21, Federal Railroad Administration, 1120 Vermont Ave., NW., Mail Stop 17, Washington, DC 20590 (telephone: (202) 493-6292), or Debra Steward, Office of Information Technology and Productivity Improvement, RAD-20, Federal Railroad Administration, 1120 Vermont Ave., NW., Mail Stop 35, Washington, DC 20590 (telephone: (202) 493-6139). (These telephone numbers are not toll-free.)

SUPPLEMENTARY INFORMATION: The Paperwork Reduction Act of 1995 (PRA), Pub. L. 104-13, section 2, 109 Stat. 163 (1995) (codified as revised at 44 U.S.C. 3501-3520), and its implementing regulations, 5 CFR part 1320, require Federal agencies to display OMB control numbers and inform respondents of their legal significance once OMB approval is obtained. The following new FRA information collections were approved: (1) OMB No. 2130-0500, Accident/Incident Reporting and Recordkeeping (49 CFR part 225) (Final Rule) (Forms FRA F6180.54; 55; 55a; 56; 57; 78; 81; 97; 98; 99; 107). The expiration date for this information collection is April 30, 2006. (2) OMB No. 2130-0556, U.S. Locational Requirement For Dispatching U.S. Rail Operations (49 CFR part 241) (Final Rule). The expiration date for this information collection is January 31, 2006. The following information collections were re-approved: (1) OMB No. 2130-0505, Inspection and Maintenance Standards For Steam Locomotives (49 CFR parts 209 and 230). The expiration date for this information collection is January 31, 2006. (2) OMB No. 2130-0548, Railroad Rehabilitation and Improvement Financing Program (49 CFR part 260). The expiration date for this information collection is January 31, 2006.

Additionally, the following information collections were previously approved: (1) OMB No. 2130-0552, Locomotive Cab Sanitation Standards (49 CFR part 229) (Final Rule). The expiration date for this information collection is June 30, 2005. (2) OMB No. 2130-0557, Safety Integration Plans (49 CFR part 244) (Final Rule). The expiration date for this information collection is March 31, 2005. Furthermore, the following information collections were previously re-approved: (1) OMB No. 2130-0517, Supplemental Qualifications Statement For Railroad Safety Inspector Applicants (Form FRA-F-120). The expiration date for this information collection is August 31, 2005. (2) OMB No. 2130-0533, Qualifications For Locomotive Engineers (49 CFR part 240). The expiration date for this information collection is June 30, 2005. (3) OMB No. 2130-0544, Passenger Equipment Safety Standards (49 CFR part 238). The expiration date for this information collection is June 30, 2005.

Persons affected by the above referenced information collections are not required to respond to any collection of information unless it displays a currently valid OMB control number. These approvals by the Office of Management and Budget (OMB) certify that FRA has complied with the provisions of the Paperwork Reduction Act of 1995 (Pub. L. 104-13) and with 5 CFR 1320.5(b) by informing the public about OMB's approval of the information collection requirements of the above cited forms and regulations.

Authority: 44 U.S.C. 3501-3520.

Issued in Washington, DC, on April 9, 2003.
Kathy A. Weiner,
Director, Office of Information Technology and Support Systems, Federal Railroad Administration.

[FR Doc. 03-9072 Filed 4-14-03; 8:45 am]

BILLING CODE 4910-06-P